DEPARTMENT OF TRANSPORTATION

Federal Motor Carrier Safety Administration

[Docket No. FMCSA-2014-0011]

Qualification of Drivers; Exemption Applications; Vision

AGENCY: Federal Motor Carrier Safety Administration (FMCSA), DOT.

ACTION: Notice of applications for exemptions, request for comments.

SUMMARY: FMCSA announces receipt of applications from 13 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before October 20, 2014. All comments will be investigated by FMCSA. The exemptions will be issued the day after the comment period closes.

ADDRESSES: You may submit comments bearing the Federal Docket Management System (FDMS) Docket No. FMCSA-2014-0011 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System (FDMS) published in the Federal Register on January 17, 2008 (73 FR 3316).

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 13 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Terry L. Allen

Mr. Allen, 63, has a prosthetic left eye due to a traumatic incident during childhood. The visual acuity in his right eye is 20/20, and in his left eye, no light perception. Following an examination in 2014, his optometrist stated, “Upon successfully passing the medical examination, it is in my professional opinion that Mr. Allen has sufficient vision to perform the driving tasks required to operate a commercial vehicle, provided the vehicle meets the states [sic] requirements for monocular drivers.” Mr. Allen reported that he has driven straight trucks for 30 years, accumulating 390,000 miles. He holds an operator's license from Illinois. His driving record for the last 3 years shows no crashes and no convictions for moving violations in a CMV.

Wilfred J. Brinkman

Mr. Brinkman, 79, has had amblyopia in his left eye since childhood. The visual acuity in his right eye is 20/20, and in his left eye, 20/400. Following an examination in 2014, his optometrist, in a letter addressed to US DOT, stated, “I examined Wilfred Brinkman . . . on April 21 2014 [sic]. His best corrected vision in his right eye is 20/20 and left eye is 20/400 . . . Mr. Brinkman's visual status is unchanged from previous exams and he is still capable of driving.” Mr. Brinkman reported that he has driven straight trucks for 16 years, accumulating 96,000 miles, and tractor-trailer combinations for 39 years, accumulating 4.39 million miles. He holds a Class A CDL from Ohio. His driving record for the last 3 years shows no crashes and no convictions for moving violations in a CMV.

Todd A. Carlson

Mr. Carlson, 51, has complete loss of vision in his right eye due to a traumatic incident during childhood. The visual acuity in his right eye is counting fingers, and in his left eye, 20/20. Following an examination in 2014, his optometrist stated, “In my medical opinion Mr. Carlson has sufficient vision to perform the driving tasks required to operate a commercial vehicle.” Mr. Carlson reported that he has driven tractor-trailer combinations for 10 years, accumulating 1 million miles. He holds a Class A CDL from Minnesota. His driving record for the last 3 years shows no crashes and no convictions for moving violations in a CMV.

Roderick L. Duvall

Mr. Duvall, 71, has had branch retinal vein occlusion in his left eye since 1997. The visual acuity in his right eye is 20/25, and in his left eye, 20/100. Following an examination in 2014, his ophthalmologist stated, “The only pathology is an old branch retinal vein occlusion that occurred in 1997 and is stable since event. I cannot find any reason to not grant Mr. Duvall a commercial vehicle license from a visual standpoint, therefore I think he is capable of driving a commercial vehicle without any detriment.” Mr. Duvall reported that he has driven straight trucks for 5 years, accumulating 60,000 miles, and tractor-trailer combinations for 43 years, accumulating 473,000 miles. He holds a Class A CDL from Pennsylvania. His driving record for the last 3 years shows one crash, to which he did not contribute and for which he was not cited, and no convictions for moving violations in a CMV.

Ronald R. Gaines

Mr. Gaines, 44, has had a retinal detachment in his right eye since 2000. The visual acuity in his right eye is 20/50, and in his left eye, 20/15. Following an examination in 2014, his ophthalmologist stated, “With glasses, I see no reason why Mr. Gaines cannot operate a commercial vehicle with excellent safety.” Mr. Gaines reported that he has driven straight trucks for 9.5 years, accumulating 494,000 miles. He holds an operator's license from Florida. His driving record for the last 3 years shows one crash, for which he was cited for careless driving, and one conviction for a moving violation in a CMV.

Russel K. Gray

Mr. Gray, 47, has had amblyopia in his right eye since childhood. The visual acuity in his right eye is 20/50, and in his left eye, 20/15. Following an examination in 2014, his optometrist stated, “Russell [sic] does have sufficient vision to perform the driving tasks required to operate a commercial vehicle.” Mr. Gray reported that he has driven straight trucks for 3 years, accumulating 199,800 miles, and tractor-trailer combinations for 27 years, accumulating 999,000 miles. He holds a Class A CDL from Ohio. His driving record for the last 3 years shows no crashes and no convictions for moving violations in a CMV.

Billy R. Hampton

Mr. Hampton, 53, has had a corneal transplant in his left eye since 2008. The visual acuity in his right eye is 20/20, and in his left eye, 20/80. Following an examination in 2014, his ophthalmologist stated, “Per DMV regulations, patient's vision both eyes together is better than 20/40. Therefore, patient has sufficient vision to perform the driving tasks required to operate a commercial vehicle.” Mr. Hampton reported that he has driven straight trucks for 20 years, accumulating 850,000 miles, tractor-trailer combinations for 9 years, accumulating 702,000 miles, and buses for 2 years, accumulating 9,500 miles. He holds an operator's license from North Carolina. His driving record for the last 3 years shows one crash, to which he contributed, and no convictions for moving violations in a CMV.

Raymond A. Holt

Mr. Holt, 57, has had moderate hyperopia, astigmatism, and amblyopia in his right eye since 1996. The visual acuity in his right eye is 20/80, and in his left eye, 20/20. Following an examination in 2014, his optometrist stated, “I certify that Raymond Holt has normal and sufficient vision to drive a commercial vehicle when he is wearing his prescribed glasses.” Mr. Holt reported that he has driven straight trucks for 12 years, accumulating 312,000 miles. He holds an operator's license from California. His driving record for the last 3 years shows no crashes and no convictions for moving violations in a CMV.

Christopher M. Keen

Mr. Keen, 40, has optic atrophy in his left eye due to a traumatic incident in 1995. The visual acuity in his right eye is 20/15, and in his left eye, no light perception. Following an examination in 2014, his optometrist stated, “I believe he has sufficient vision to operate a commercial vehicle.” Mr. Keen reported that he has driven straight trucks for 4 years, accumulating 240,000 miles. He holds a Class B CDL from Kansas. His driving record for the last 3 years shows no crashes and no convictions for moving violations in a CMV.

Julie A. Mabry

Ms. Mabry, 52, has complete loss of vision in her left eye due to a traumatic incident during childhood. The visual acuity in her right eye is 20/20, and in her left eye, no light perception. Following an examination in 2014, her optometrist stated, “In my medical opinion Julie Mabry has sufficient vision to perform the driving tasks required to operate a commercial vehicle.” Ms. Mabry reported that she has driven straight trucks for 3 years, accumulating 135,000 miles. She holds an operator's license from Arizona. Her driving record for the last 3 years shows no crashes and no convictions for moving violations in a CMV.

William L. Moore

Mr. Moore, 46, has had a macular scar in his left eye since childhood. The visual acuity in his right eye is 20/20, and in his left eye, 20/60. Following an examination in 2014, his optometrist stated, “In my medical opinion I believe Mr. Moore has vision sufficient to perform all driving tasks required to operate a commercial vehicle.” Mr. Moore reported that he has driven straight trucks for 2 years, accumulating 80,000 miles, and tractor-trailer combinations for 15 years, accumulating 1.5 million miles. He holds a Class A CDL from Florida. His driving record for the last 3 years shows no crashes and no convictions for moving violations in a CMV.

Benny R. Morris

Mr. Morris, 57, has complete loss of vision in his right eye due to a traumatic incident in 1990. The visual acuity in his right eye is no light perception, and in his left eye, 20/20. Following an examination in 2013, his ophthalmologist stated, “Since he has been operating a commercial vehicle for approximately 20 years, and has had no change in his visual system for at least 10 years, I do not feel there are any more problems now than in the past with his operating a commercial vehicle.” Mr. Morris reported that he has driven straight trucks for 5 years, accumulating 25,000 miles, and tractor-trailer combinations for 35 years, accumulating 4.38 million miles. He holds a Class A CDL from West Virgnia. His driving record for the last 3 years shows no crashes and no convictions for moving violations in a CMV.

Juan C. Puente

Mr. Puente, 50, has retinal damage in his right eye due to a traumatic incident in 2003. The visual acuity in his right eye is light perception, and in his left eye, 20/20. Following an examination in 2014, his optometrist stated, “The damage to his macula, while permanent is unchanged and is not progressing. . . . In my opinion there should be no question of his ability to drive any vehicle.” Mr. Puente reported that he has driven straight trucks for 5 years, accumulating 300,000 miles, tractor-trailer combinations for 20 years, accumulating 2.56 million miles, and buses for 4 years, accumulating 336,000 miles. He holds a Class A CDL from Texas. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0011 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0011 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued On: September 10, 2014.
Larry W. Minor,
Associate Administrator for Policy.

[FR Doc. 2014-22258 Filed 9-17-14; 8:45 am]

BILLING CODE 4910-EX-P